DEPARTMENT OF TRANSPORTATION

Federal Aviation Administration

14 CFR Part 39

[Docket No. FAA-2016-9058; Directorate Identifier 2016-NM-024-AD; Amendment 39-18771; AD 2017-01-04]

RIN 2120-AA64

Airworthiness Directives; Fokker Services B.V. Airplanes

AGENCY: Federal Aviation Administration (FAA), Department of Transportation (DOT).

ACTION: Final rule.

SUMMARY: We are adopting a new airworthiness directive (AD) for certain Fokker Services B.V. Model F28 Mark 0100 airplanes. This AD was prompted by an analysis which determined that, for certain areas of the fuselage, the current threshold of an Airworthiness Limitations Section inspection is insufficient to detect early crack development. This AD requires one time high and low frequency eddy current inspections of the affected fuselage skin for cracks, and repair if necessary. We are issuing this AD to address the unsafe condition on these products.

DATES: This AD is effective February 22, 2017.

The Director of the Federal Register approved the incorporation by reference of a certain publication listed in this AD as of February 22, 2017.

ADDRESSES: For service information identified in this final rule, contact Fokker Services B.V., Technical Services Dept., P.O. Box 1357, 2130 EL Hoofddorp, the Netherlands; telephone: +31 (0)88-6280-350; fax: +31 (0)88-6280-111; email: technicalservices@fokker.com; Internet http://www.myfokkerfleet.com. You may view this referenced service information at the FAA, Transport Airplane Directorate, 1601 Lind Avenue SW., Renton, WA. For information on the availability of this material at the FAA, call 425-227-1221. It is also available on the Internet at http://www.regulations.gov by searching for and locating Docket No. FAA-2016-9058.

Examining the AD Docket

You may examine the AD docket on the Internet at http://www.regulations.gov by searching for and locating Docket No. FAA-2016-9058; or in person at the Docket Management Facility between 9 a.m. and 5 p.m., Monday through Friday, except Federal holidays. The AD docket contains this AD, the regulatory evaluation, any comments received, and other information. The street address for the Docket Office (telephone 800-647-5527) is Docket Management Facility, U.S. Department of Transportation, Docket Operations, M-30, West Building Ground Floor, Room W12-140, 1200 New Jersey Avenue SE., Washington, DC 20590.

FOR FURTHER INFORMATION CONTACT: Tom Rodriguez, Aerospace Engineer, International Branch, ANM-116, Transport Airplane Directorate, FAA, 1601 Lind Avenue SW., Renton, WA 98057-3356; telephone 425-227-1137; fax 425 227 1149.

SUPPLEMENTARY INFORMATION:

Discussion

We issued a notice of proposed rulemaking (NPRM) to amend 14 CFR part 39 by adding an AD that would apply to certain Fokker Services B.V. Model F28 Mark 0100 airplanes. The NPRM published in the Federal Register on September 8, 2016 (81 FR 62029) (“the NPRM”). The NPRM was prompted by an analysis which determined that, for certain areas of the fuselage, the current threshold of an Airworthiness Limitations Section inspection is insufficient to detect early crack development. The NPRM proposed to require one time high and low frequency eddy current inspections of the affected fuselage skin for cracks, and repair if necessary. We are issuing this AD to detect and correct cracks in the fuselage skin; such cracking could result in reduced structural integrity of the fuselage.

The European Aviation Safety Agency (EASA), which is the Technical Agent for the Member States of the European Union, has issued EASA Airworthiness Directive Airworthiness Directive 2016-0029R1, dated November 17, 2016 (referred to after this as the Mandatory Continuing Airworthiness Information, or “the MCAI”), to correct an unsafe condition for certain Fokker Services B.V. Model F28 Mark 0100 airplanes. The MCAI states:

A complementary fatigue and damage tolerance analysis was accomplished by the design approval holder on the traffic collision avoidance system (TCAS) antenna installation on the top of the fuselage between station (STA) 6805 and STA7305. Based on the results, it was determined that for the affected area, the current 58 000 flight cycles (FC) threshold of Airworthiness Limitations Section (ALS) inspection task 533001-00-20 and 533028-00-20 (special detailed inspection of longitudinal lap joints) is insufficient to timely detect possible crack development.

This condition, if not detected and corrected, could affect the structural integrity of the fuselage in this area.

To address this potential unsafe condition, Fokker Services published Service Bulletin (SB) SBF100-53-130 to provide inspection instructions.

Consequently, EASA issued AD 2016-0029 to require a one-time inspection of the fuselage skin around the largest TCAS antenna external doubler and of the longitudinal lap joint at stringer (STR) 37 between fuselage STA6805 and STA7305.

Since that [EASA] AD was issued, it was discovered that another ALS inspection task, 533028-00-20, is also related to this subject. This [EASA] AD is revised to clarify that the inspection threshold of both ALS inspection tasks has been re-assessed. It is expected that a repetitive inspection task will be included in the ALS, which will cover only the area close to the TCAS antenna installation. For the remainder of the affected lap joint, no change is anticipated and this will therefore continue to be inspected in accordance with the existing ALS tasks.

This [EASA] AD is still considered to be an interim action and further [EASA] AD action may follow. More information on this subject can be found in Fokker Services All Operators Message AOF100.199#02.

You may examine the MCAI in the AD docket on the Internet at http://www.regulations.gov by searching for and locating Docket No. FAA-2016-9058.

Comments

We gave the public the opportunity to participate in developing this AD. We received no comments on the NPRM or on the determination of the cost to the public.

Revised MCAI AD

Since the NPRM was issued, EASA revised 2016-0029, dated March 8, 2016. EASA AD 2016-0029R1, dated November 17, 2016, clarifies that the inspection threshold of both ALS inspection tasks have been re-assessed. The revised MCAI did not result in a change to the NPRM. We have revised this AD to refer to EASA AD 2016-0029R1, dated November 17, 2016.

Conclusion

We reviewed the relevant data and determined that air safety and the public interest require adopting this AD with the change described previously and minor editorial changes. We have determined that these minor changes:

• Are consistent with the intent that was proposed in the NPRM for correcting the unsafe condition; and

• Do not add any additional burden upon the public than was already proposed in the NPRM.

Related Service Information Under 1 CFR Part 51

We reviewed Fokker Service Bulletin SBF100-53-130, dated December 1, 2015. This service information describes one time high and low frequency eddy current inspections for cracks of the fuselage skin. This service information is reasonably available because the interested parties have access to it through their normal course of business or by the means identified in the ADDRESSES section.

Costs of Compliance

We estimate that this AD affects 8 airplanes of U.S. registry.

We estimate the following costs to comply with this AD:

Estimated Costs
Action | Labor cost | Parts cost | Cost per product | Cost on U.S. operators
Inspection | 1 work-hour × $85 per hour = $85 | $0 | $85 | $680

We have received no definitive data that will enable us to provide cost estimates for the on-condition actions specified in this AD.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2017-01-04 Fokker Services B.V.: Amendment 39-18771; Docket No. FAA-2016-9058; Directorate Identifier 2016-NM 024-AD.

(a) Effective Date

This AD is effective February 22, 2017.

(b) Affected ADs

None.

(c) Applicability

This AD applies to Fokker Services B.V. Model F28 Mark 0100 airplanes, certificated in any category, serial numbers 11244 through 11407 inclusive.

(d) Subject

Air Transport Association (ATA) of America Code 53, Fuselage.

(e) Reason

This AD was prompted by an analysis which determined that, for certain areas of the fuselage, the current threshold of an Airworthiness Limitations Section inspection is insufficient to detect early crack development. We are issuing this AD to detect and correct cracks in the fuselage skin; such cracking could result in reduced structural integrity of the fuselage.

(f) Compliance

Comply with this AD within the compliance times specified, unless already done.

(g) Inspection

Within the compliance time specified in paragraphs (g)(1) and (g)(2) of this AD, as applicable, do high and low frequency eddy current inspections for cracks in the fuselage skin around the largest traffic collision avoidance system (TCAS) antenna external doubler and of the longitudinal lap joint at fuselage stringer STR37 between fuselage station (STA) STA6805 and STA7305, in accordance with the Accomplishment Instructions of Fokker Service Bulletin SBF100-53-130, dated December 1, 2015.

(1) For airplanes having 45,000 or more total flight cycles as of the effective date of this AD, since the date of issuance of the original airworthiness certificate or the date of issuance of the original export certificate of airworthiness: Do the high and low frequency eddy current inspections within 750 flight cycles after the effective date of this AD.

(2) For airplanes having 40,000 or more total flight cycles, but less than 45,000 total flight cycles as of the effective date of this AD, since the date of issuance of the original airworthiness certificate or the date of issuance of the original export certificate of airworthiness: Do the high and low frequency eddy current inspections within 1,500 flight cycles after the effective date of this AD.

(h) Corrective Action

If any crack is found during any inspection required by paragraph (g) of this AD: Before further flight, repair using a method approved by the Manager, International Branch, ANM 116, Transport Airplane Directorate, FAA; or the European Aviation Safety Agency (EASA); or Fokker B.V. Service's EASA Design Organization Approval (DOA).

(i) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Tom Rodriguez, Aerospace Engineer, International Branch, ANM-116, Transport Airplane Directorate, FAA, 1601 Lind Avenue SW., Renton, WA 98057-3356; telephone 425-227-1137; fax 425-227-1149. Information may be emailed to: 9-ANM-116-AMOC-REQUESTS@faa.gov. Before using any approved AMOC, notify your appropriate principal inspector, or lacking a principal inspector, the manager of the local flight standards district office/certificate holding district office.

(2) Contacting the Manufacturer: For any requirement in this AD to obtain corrective actions from a manufacturer, the action must be accomplished using a method approved by the Manager, International Branch, ANM-116, Transport Airplane Directorate, FAA; or EASA; or Fokker Services B.V.'s EASA DOA. If approved by the DOA, the approval must include the DOA-authorized signature.

(j) Related Information

Refer to Mandatory Continuing Airworthiness Information (MCAI) EASA AD 2016-0029R1, dated November 17, 2016, for related information. This MCAI may be found in the AD docket on the Internet at http://www.regulations.gov by searching for and locating Docket No. FAA-2016-9058.

(k) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) Fokker Service Bulletin SBF100-53-130, dated December 1, 2015.

(ii) Reserved.

(3) For service information identified in this AD, contact Fokker Services B.V., Technical Services Dept., P.O. Box 1357, 2130 EL Hoofddorp, the Netherlands; telephone: +31 (0)88-6280-350; fax: +31 (0)88-6280-111; email: technicalservices@fokker.com; Internet http://www.myfokkerfleet.com.

(4) You may view this service information at the FAA, Transport Airplane Directorate, 1601 Lind Avenue SW., Renton, WA. For information on the availability of this material at the FAA, call 425-227-1221.

(5) You may view this service information that is incorporated by reference at the National Archives and Records Administration (NARA). For information on the availability of this material at NARA, call 202-741-6030, or go to: http://www.archives.gov/federal-register/cfr/ibr-locations.html.

Issued in Renton, Washington, on December 27, 2016.
Jeffrey E. Duven,
Manager, Transport Airplane Directorate, Aircraft Certification Service.

[FR Doc. 2017-00410 Filed 1-17-17; 8:45 am]

BILLING CODE 4910-13-P